DEPARTMENT OF COMMERCE

National Oceanic and Atmospheric Administration

[RTID 0648-XF478]

Pacific Fishery Management Council; Public Meetings and Hearings

AGENCY: National Marine Fisheries Service (NMFS), National Oceanic and Atmospheric Administration (NOAA), Commerce.

ACTION: Notice of opportunities to provide public comments.

SUMMARY: The Pacific Fishery Management Council (Council) has begun its annual preseason process to develop regulations to manage the 2026 ocean salmon fisheries off the U.S. West Coast. This notice informs the public of opportunities to provide oral and written comments on the development of the regulations.

DATES: Comments received electronically or in hard copy by 5 p.m. Pacific Time, April 6, 2026, or orally no later than April 8, 2026, at a Council meeting or public hearing will be considered in the Council's final recommendation for the 2026 regulations and in NMFS consideration of the Council's final recommendation. Dates when comments may be made at public hearings are provided under SUPPLEMENTARY INFORMATION.

ADDRESSES: Documents will be available from the Pacific Fishery Management Council, 7700 NE Ambassador Place, Suite 101, Portland, OR 97220-1384, and will be posted on the Council's website at https://www.pcouncil.org. You may submit written comments by any one of the following methods:

• Council e-Portal: Written comments must be submitted electronically through the Council's e-portal by visiting http://www.pcouncil.org.

• Federal e-Rulemaking Portal: Electronic public comments via the Federal e-Rulemaking Portal. Go to https://www.regulations.gov and enter NOAA-NMFS-2026-0001 in the Search box. Click on the “Comment” tab, complete the required fields, and enter or attach your comments. All personal identifying information (e.g., name, address, etc.), confidential business information, or otherwise sensitive information submitted voluntarily by the sender will be publicly accessible. NMFS and the Council will accept anonymous comments (enter “N/A” in the required fields if you wish to remain anonymous).

FOR FURTHER INFORMATION CONTACT: Ms. Angela Forristall, Pacific Fishery Management Council, telephone: 503-820-2419 (ext. 419); email: angela.forristall@pcouncil.org. For information on submitting comments via the Federal e-Rulemaking portal, contact Shannon Penna, NMFS West Coast Region, telephone: 562-980-4239; email: shannon.penna@noaa.gov.

SUPPLEMENTARY INFORMATION: On December 30, 2025, the Council announced the schedule of reports, public meetings, and hearings for the development of annual regulations for the ocean salmon fisheries that start May 16, 2026, and continue through May 15, 2027, which we refer to as the 2026 management measures (90 FR 61127; December 30, 2025). The Council will adopt alternatives for 2026 ocean salmon fisheries management at its meetings to be held in person March 4-9, 2026, in Sacramento, CA. Details of this meeting, including opportunities to provide written public comments and public testimony in-person or virtually are available on the Council's website (https://www.pcouncil.org). On March 26, 2026, “Preseason Report II—Proposed Alternatives and Environmental Assessment Part 2 for 2026 Ocean Salmon Fishery Regulations” is scheduled to be posted on the Council's website at https://www.pcouncil.org. The report will include a description of the salmon management alternatives adopted by the Council at the March meeting to be considered at the April meeting and a summary of their biological and economic impacts.

Public hearings will be held to receive oral comments on the proposed ocean salmon fishery management alternatives adopted by the Council. All public hearings begin at 7 p.m. Pacific Time. The public hearing focusing on Washington will occur in person on March 23, 2026, in Westport, WA, and the public hearing for California salmon fisheries will occur in person on March 23, 2026, in Santa Rosa, CA. No virtual options are available for these public hearings. The public hearing for Oregon will occur both in-person and virtually on March 24, 2026. Actual hearing venues and instructions for joining online hearings will be posted on the Council's website (https://www.pcouncil.org) in advance of the hearing dates. A summary of oral comments received at the hearings will be provided to the Council at its April meeting.

At its April meeting, the Council will adopt the set of management measures it will recommend to NMFS for consideration under the Magnuson-Stevens Fishery Conservation and Management Act. This meeting provides an additional opportunity for written public comment and public testimony in-person or virtually. Details regarding this meeting and comment opportunities are available on the Council's website at https://www.pcouncil.org.

Comments on the alternatives the Council adopts at its March 2026 meeting, and described in its Preseason Report II, may be submitted (1) in writing or electronically as described under ADDRESSES, (2) orally (in-person) at a public hearing, (3) orally (online or in-person) or in writing at the Council meeting held on March 4-9, 2026, which is scheduled to occur in person, in Sacramento, CA, or orally (online or in-person) at the Council meeting held on April 7-12, 2026, which is scheduled to occur in person, in Portland, OR. Details of these meetings will be available on the Council's website (https://www.pcouncil.org) and will be published in the Federal Register. In order to be considered in the Council's decision on its final recommendation for the 2026 salmon fishery management measures and in NMFS' consideration of that final recommendation, written and electronically submitted comments must be received by 5 p.m. Pacific Time on April 6th. All comments received accordingly will be reviewed and considered by the Council and NMFS.

Authority: 16 U.S.C. 1801 et seq.

Dated: February 11, 2026.
David R. Blankinship,
Acting Director, Office of Sustainable Fisheries, National Marine Fisheries Service.

[FR Doc. 2026-03059 Filed 2-13-26; 8:45 am]

BILLING CODE 3510-22-P